ENVIRONMENTAL PROTECTION AGENCY

[FRL-9978-85—Region 10]

Extension of Comment Period for Proposed Issuance of NPDES General Permit for Hydroelectric Facilities Within the State of Idaho (IDG360000)

AGENCY: Environmental Protection Agency.

ACTION: Notice of proposed issuance of NPDES General Permit; extension of comment period.

SUMMARY: The Environmental Protection Agency (EPA) Region 10 is extending the comment period for the proposed issuance of a National Pollutant Discharge Elimination System (NPDES) General Permit for Hydroelectric Facilities discharging to waters within the State of Idaho (Permit No. IDG360000). The agency is extending the comment period for 30 days in response to requests from Idaho Power Co. and Utility Water Act Group.

DATES: The comment period for the proposed General Permit published in the Federal Register on April 27, 2018 (83 FR 18555) is being extended. Comments must be received on or before July 11, 2018.

ADDRESSES: Submit your comments on the draft General Permit to Director, Office of Water and Watersheds, USEPA Region 10, 1200 Sixth Avenue, Suite 155, OWW-191, Seattle, WA 98101. Your comments may also be submitted by fax to (206) 553-1280 or electronically to keenan.dru@epa.gov.

Comments on the draft 401Certification should be sent to Loren Moore, Idaho Department of Environmental Quality, 1410 N Hilton, Boise, Idaho 83706 or electronically to Loren.Moore@deq.idaho.gov.

FOR FURTHER INFORMATION CONTACT: Dru Keenan, 206-553-1219, Keenan.Dru@epa.gov.

SUPPLEMENTARY INFORMATION: On April 27, 2018 (83 FR 18555), the EPA Region 10 published the proposed general NPDES permit for hydroelectric facilities located in Idaho in the Federal Register. The original deadline to submit comments was June 11, 2018. This action extends the comment period for 30 days. Written comments must now be received on or before July 11, 2018.

Permit documents may be found on the EPA Region 10 website at: https://www.epa.gov/npdes-permits/draft-npdes-general-permit-hydroelectric-generating-facilities-idaho. Copies of the draft General Permit and Fact Sheet are also available upon request. Requests may be made to Audrey Washington at (206) 553-0523 or to Dru Keenan at (206) 553-1219. Requests may also be electronically mailed to: Washington.audrey@epa.gov, or keenan.dru@epa.gov.

Dated: May 22, 2018.
Daniel D. Opalski,
Director, Office of Water and Watersheds, Region 10.

[FR Doc. 2018-12389 Filed 6-7-18; 8:45 am]

BILLING CODE 6560-50-P